DEPARTMENT OF TRANSPORTATION

Office of the Secretary

Notice of Applications for Certificates of Public Convenience and Necessity and Foreign Air Carrier Permits Filed Under Subpart B (Formerly Subpart Q) During the Week Ending July 18, 2008

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0211.

Date Filed: July 16, 2008.

Due Date for Answers, Conforming Applications, or Motion to Modify Scope: August 6, 2008.

Description: Amended Application of Spirit Airlines, Inc. requesting (1) a certificate of public convenience and necessity for scheduled combination foreign air transportation between points in the United States via intermediate points to Manaus, Brazil and beyond to points in Argentina, Uruguay, Paraguay, and Chile; (2) an exemption for a minimum of two years or until the grant of certificate authority to operate such service; (3) an allocation of seven (7) weekly frequencies for this service to commence in the Fall, 2009; and (4) a designation to the Government of Brazil for this service. Spirit further requests any further relief that the Department may deem necessary.

Docket Number: DOT-OST-2008-0228.

Date Filed: July 16, 2008.

Due Date for Answers, Conforming Applications, or Motion to Modify Scope: August 6, 2008.

Description: Application of Centurion Air Cargo, Inc. (“Centurion”) requesting a certificate of public convenience and necessity to the extent necessary to permit it to engage in scheduled foreign air transportation of property and mail between a point or points in the United States, via intermediate points, and the Brazilian co-terminal points Manaus, Brasilia, Rio de Janeiro, Sao Paulo, Recife, Porto Alegre, Belem, Belo Horizonte, Curitiba, Fortaleza, and Salvador, and beyond Brazil to Argentina, Uruguay, Paraguay and Chile. Centurion also requests, to the extent necessary or as an alternative, an exemption to permit Centurion to conduct such service for an initial period of two years or until the grant of the requested certificate authority. Centurion also requests that it be designated under the U.S.-Brazil Air Transport Agreement, that the Department allocate it seven (7) weekly U.S.-Brazil all-cargo frequencies, and that the Department integrate the requested authority with Centurion's existing exemption and certificate authority.

Docket Number: DOT-OST-2008-0231.

Date Filed: July 15, 2008.

Due Date for Answers, Conforming Applications, or Motion to Modify Scope: August 5, 2008.

Description: Application of Avjet Corporation (“Avjet”) requesting a certificate of public convenience and necessity authorizing Avjet to engage in foreign charter air transportation of persons, property and mail.

Docket Number: DOT-OST-2008-0222.

Date Filed: July 15, 2008.

Due Date for Answers, Conforming Applications, or Motion to Modify Scope: August 5, 2008.

Description: Application of euroAtlantic Airways Transportes Aereos, S.A. requesting a foreign air carrier permit to provide: (a) Foreign charter air transportation of persons, property and mail from any point or points behind any Member State of the European Community via any point or points in any Member State and via intermediate points to any point or points in the United States and beyond; (b) foreign charter air transportation of persons, property and mail between any point or points in the United States and any point or points in any member of the European Common Aviation Area; (c) foreign charter cargo air transportation between any point or points in the United States and any other point or points; (d) other charters pursuant to prior approval; and (e) charter transportation consistent with any future, additional rights that may be granted to foreign air carriers of the Member States of the European Union.

Docket Number: DOT-OST-2008-0224.

Date Filed: July 15, 2008.

Due Date for Answers, Conforming Applications, or Motion to Modify Scope: August 5, 2008.

Description: Application of Avjet Corporation (“Avjet”) requesting a certificate of public convenience and necessity authorizing Avjet to engage in interstate charter air transportation of persons, property and mail.

Renee V. Wright,
Program Manager, Docket Operations, Federal Register Liaison.

[FR Doc. E8-18304 Filed 8-7-08; 8:45 am]

BILLING CODE 4910-9X-P